ENVIRONMENTAL PROTECTION AGENCY

40 CFR Part 82

[FRL-6949-8]

Protection of Stratospheric Ozone: Notice 14 for Significant New Alternatives Policy Program; Correction

AGENCY: Environmental Protection Agency.

ACTION: Notice of Acceptability, correction; Request for Information, correction.

SUMMARY: The Environmental Protection Agency published in the Federal Register of December 18, 2000, a Notice of Acceptability and Request for Information related to the Significant New Alternatives Policy (SNAP) program. A number of typographical errors were made inadvertently. In addition, a commenter provided updated information about the flammability of one chemical presented in the notice. This document identifies and corrects these errors.

DATES: These corrections are effective on March 7, 2001. Please submit any information in response to the December 18, 2000 requests for information by May 7, 2001.

FOR FURTHER INFORMATION CONTACT: Margaret Sheppard by telephone at (202) 564-9163, by fax at (202) 565-2141, by e-mail at sheppard.margaret@epa.gov, or by mail at U.S. Environmental Protection Agency, Mail Code 6205J, Washington, D.C. 20460. Overnight or courier deliveries should be sent to the office location at 501 3rd Street, N.W., Washington, D.C., 20001. Further information can be found by calling the Stratospheric Protection Hotline at (800) 296-1996, or by viewing EPA's Ozone Depletion World Wide Web site at www.epa.gov/ozone/title6/snap/.

SUPPLEMENTARY INFORMATION: The Environmental Protection Agency published in the Federal Register of December 18, 2000 (65 FR 78977), a Notice of Acceptability and Request for Information related to the Significant New Alternatives Policy (SNAP). In FR Doc. 00-31946, published on December 18, 2000, a number of typographical errors were made inadvertently. In addition, a commenter provided updated information about the flammability of one chemical presented in the notice, showing that a statement in the notice was in error. This document identifies and corrects these errors.

In FR Doc. 00-31946, published on December 18, 2000 (65 FR 78977), in the “Supplementary Information” section make the following corrections:

1. On p. 78978, seventeenth and eighteenth lines from the top of the first column, correct the third bullet in EPA's decision for HFE-7100 to read “CFC-13, R-13B1, and R-503 in very low temperature refrigeration.”

2. On p. 78978, fifth and sixth lines from the bottom of the first column, correct the third bullet in EPA's decision for HFE-7200 to read “CFC-13, R-13B1, and R-503 in very low temperature refrigeration.”

3. On p. 78980, seventh line from the bottom of the third column under the heading “Flammability Information,” remove the sentence, “HFC-365mfc has no flash point.” Add the following sentences at the end of that paragraph: “HFC-365mfc has a flash point below −27 °C. This compound is flammable, but less flammable than hydrocarbon solvents.”

4. On p. 78981, 32nd line from the top of the second column under the heading “Flammability Information,” remove the sentence, “HFC-365mfc has no flash point.” Add the following sentences at the end of that paragraph: “HFC-365mfc has a flash point below −27 °C. This compound is flammable, but less flammable than hydrocarbon solvents.”

5. On p. 78984, in the ninth and tenth lines from the bottom of the third column, correct the reference to the ozone depletion potential of n-propyl bromide in the tropics to be “0.087 to 0.105.”

6. On p. 78987, in the ninth and thirteenth lines from the top of the “Substitute” column in the table, for the end use of very low temperature refrigeration, remove the reference to “CFC-113” and add “CFC-13” in its place.

7. On p. 78988, in the eighth and fourteenth lines from the top of the “Substitute” column in the table, for the end uses of centrifugal and reciprocating chillers, remove the references to “HCFC-12” and add “HCFC-22” in their place.

Dated: February 1, 2001.
Drusilla Hufford,
Director, Global Programs Division.

[FR Doc. 01-5565 Filed 3-6-01; 8:45 am]

BILLING CODE 6560-50-P